SOCIAL SECURITY ADMINISTRATION

[Docket No: SSA-2020-0067]

Agency Information Collection Activities: Proposed Request

The Social Security Administration (SSA) publishes a list of information collection packages requiring clearance by the Office of Management and Budget (OMB) in compliance with Public Law 104-13, the Paperwork Reduction Act of 1995, effective October 1, 1995. This notice includes new information collections, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online, referencing Docket ID Number [SSA-2020-0067].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2020-0067].

The information collections below are pending at SSA. SSA will submit them to OMB within 60 days from the date of this notice. To be sure we consider your comments, we must receive them no later than March 8, 2021. Individuals can obtain copies of the collection instruments by writing to the above email address.

1. Retaining Employment and Talent After Injury/Illness Network (RETAIN)—0960-NEW.

Background

The Social Security Administration (SSA) and the U.S. Department of Labor (DOL) are undertaking the Retaining Employment and Talent After Injury/Illness Network (RETAIN) demonstration. The RETAIN demonstration will test the impact of early intervention strategies to improve stay-at-work/return-to-work (SAW/RTW) outcomes of individuals who experience work disability while employed. We define “work disability” as an injury, illness, or medical condition that has the potential to inhibit or prevent continued employment or labor force participation. SAW/RTW programs succeed by returning injured or ill workers to productive work as soon as medically possible during their recovery process, and by providing interim part-time or light duty work and accommodations, as necessary. The RETAIN demonstration is loosely modeled after promising programs operating in Washington State, including the Centers of Occupational Health and Education (COHE), the Early Return to Work (ERTW), and the Stay at Work programs. While these programs operate within the state's workers' compensation system, and are available only to people experiencing work-related injuries or illnesses, the RETAIN demonstration provides opportunities to improve SAW/RTW outcomes for both occupational and non-occupational injuries and illnesses of people who are employed, or at a minimum in the labor force, when their injury or illness occurs.

The primary goals of the RETAIN demonstration are:

1. To increase employment retention and labor force participation of individuals who acquire, or are at risk of developing, work disabilities; and

2. To reduce long-term work disability among RETAIN service users, including the need for Social Security Disability Insurance and Supplemental Security Income.

The ultimate purpose of the demonstration is to validate and expand implementation of evidence-based strategies to accomplish these goals. DOL is funding the intervention approaches and programmatic technical assistance for the demonstration. SSA is funding evaluation support, including technical assistance and the full evaluation for the demonstration.

Project Description

The demonstration consists of two phases. The first involves the implementation and assessment of cooperative awards to eight states to conduct planning and start-up activities, including the launch of a small pilot demonstration. During phase 1, SSA will provide evaluation-related technical assistance and planning, and conduct evaluability assessments to assess which states' projects would allow for a rigorous evaluation if continued beyond the pilot phase. DOL will select a subset of the states to continue to phase 2, full implementation.

Phase 2 will include a subset of states for full implementation and evaluation. During phase 2, DOL will fund the operations and program technical assistance activities for the recommended states, and SSA will fund the full set of evaluation activities.

SSA is requesting clearance for the collection of data needed to implement and evaluate RETAIN. The four components of this evaluation, completed during site visits, interviews with RETAIN service users, surveys of RETAIN enrollees, and surveys of RETAIN service providers, include:

• The participation analysis: Using RETAIN service user interviews and surveys, this analysis will provide insights into which eligible workers choose to participate in the program, in what ways they participate, and how services received vary with participant characteristics. Similarly, it will assess the characteristics of, and if possible, reasons for non-enrollment of non-participants.

• The process analysis: Using staff interviews and logs, this analysis will produce information about operational features that affect service provision; perceptions of the intervention design by service users, providers, administrators, and other stakeholders; the relationships among the partner organizations; each program's fidelity to the research design; and lessons for future programs with similar objectives.

• The impact analysis: This analysis will produce estimates of the effects of the interventions on primary outcomes, including employment and Social Security disability applications, and secondary outcomes, such as health and service usage. SSA will identify evaluation designs for each state to generate impact estimates. The evaluation design could include experimental or non-experimental designs.

• The cost-benefit analysis: This analysis will assess whether the benefits of RETAIN justify its costs. We conduct this assessment from a range of perspectives, including those of the participants, state and Federal governments, SSA, and society as a whole.

The proposed data collections to support these analyses include qualitative and quantitative data. At this time, SSA requests clearance for all of these data collection activities. The qualitative data collection consists of: (1) Semi-structured interviews with program staff and service users; and (2) staff activity logs. The program staff will complete interviews during two rounds of site visits. They will focus on staff's perceptions of the successes and challenges of implementing each state's program. The staff activity logs will house information on staff's time to inform the benefit-cost analysis. The service user interviews will inform SSA's understanding of users' experiences with program services. The quantitative data include SSA's program records and survey data. The survey data collection consists of: (1) Two rounds of follow-up surveys, focusing on individual-level outcomes, with enrollees, all of whom who have experienced a disability onset; and (2) two rounds of surveys with RETAIN providers.

The respondents are staff members selected for staff interviews and staff activity logs, and RETAIN service users, enrollees, and providers.

Type of Request: Request for a new information collection.

Modality of completion | Number of respondents | Frequency of response | Average burden per response (minutes) | Estimated total annual burden (hours) | Average theoretical hourly cost amount (dollars) * | Average wait time in field office (minutes) ** | Total annual opportunity cost (dollars) ***
RETAIN 2021 Burden Figures
Enrollee Survey Round 1 (Respondents) | 320 | 1 | 15 | 80 | * $25.72 | ** 24 | *** $5,350
Enrollee Survey Round 1 (Nonrespondents) | 80 | 1 | 3 | 4 | * 25.72 | ** 24 | *** 926
Totals | 400 |  |  | 84 |  |  | *** 6,276
RETAIN 2022 Burden Figures
Staff Interviews (state administrators/directors) | 4 | 1 | 105 | 7 | * 45.23 | 24 | *** 407
Staff Interviews (program line staff) | 72 | 1 | 75 | 90 | * 32.58 | ** 24 | *** 3,870
Service User Interviews (Respondents) | 60 | 1 | 36 | 36 | * 25.72 | ** 24 | *** 1,543
Service User Interviews (Nonrespondents) | 540 | 1 | 6 | 54 | * 25.72 | ** 24 | *** 6,945
Staff Activity Logs (state administrators/directors) | 4 | 1 | 70 | 5 | * 45.23 | ** 24 | *** 298
Staff Activity Logs (program line staff) | 48 | 1 | 70 | 56 | 32.58 | ** 24 | *** 2,450
Enrollee Survey Round 1 (Respondents) | 3,840 | 1 | 15 | 960 | * 25.72 | ** 24 | *** 64,197
Enrollee Survey Round 1 (Nonrespondents) | 960 | 1 | 3 | 48 | * 25.72 | ** 24 | *** 11,111
Enrollee Survey Round 2 (Respondents) | 960 | 1 | 21 | 336 | 25.72 | ** 24 | *** 18,518
Enrollee Survey Round 2 (Nonrespondents) | 240 | 1 | 3 | 12 | 25.72 | 24 | *** 2,778
Provider Survey Round 2 (Respondents) | 320 | 1 | 17 | 91 | * 32.58 | ** 24 | *** 7,135
Provider Survey Round 2 (Nonrespondents) | 80 | 1 | 3 | 4 | * 32.58 | ** 24 | *** 1,173
Totals | 7,128 |  |  | 1,699 |  |  | *** 120,425
RETAIN 2023 Burden Figures
Enrollee Survey Round 1 (Respondents) | 3,840 | 1 | 15 | 960 | * 25.72 | ** 24 | *** 64,197
Enrollee Survey Round 1 (Nonrespondents) | 960 | 1 | 3 | 48 | 25.72 | 24 | *** 11,111
Enrollee Survey Round 2 (Respondents) | 3,840 | 1 | 21 | 1,344 | * 25.72 | ** 24 | *** 74,074
Enrollee Survey Round 2 (Nonrespondents) | 960 | 1 | 3 | 48 | * 25.72 | ** 24 | *** 11,111
Provider Survey Round 2 (Respondents) | 320 | 1 | 17 | 91 | * 32.58 | ** 24 | *** 7,135
Provider Survey Round 2 (Nonrespondents) | 80 | 1 | 3 | 4 | * 32.58 | ** 24 | *** 1,173
Totals | 10,000 |  |  | 2,495 |  |  | *** 168,801
RETAIN 2024 Burden Figures
Enrollee Survey Round 1 (Respondents) | 1,600 | 1 | 15 | 400 | * 25.72 | ** 24 | *** 26,749
Enrollee Survey Round 1 (Nonrespondents) | 400 | 1 | 3 | 20 | * 25.72 | ** 24 | *** 4,629
Enrollee Survey Round 2 (Respondents) | 3,840 | 1 | 21 | 1,344 | * 25.72 | ** 24 | *** 74,074
Enrollee Survey Round 2 (Nonrespondents) | 960 | 1 | 3 | 48 | * 25.72 | ** 24 | *** 11,111
Totals | 6,800 |  |  | 1,812 |  |  | *** 116,563
RETAIN 2025 Burden Figures
Enrollee Survey Round 2 (Respondents) | 960 | 1 | 21 | 336 | * 25.72 | ** 24 | *** 18,518
Enrollee Survey Round 2 (Nonrespondents) | 240 | 1 | 3 | 12 | * 25.72 | ** 24 | *** 2,778
Totals | 1,200 |  |  | 348 |  |  | *** 21,296
RETAIN Grand Total Burden Figures
Totals | 25,528 |  |  | 6,438 |  |  | *** 433,361
* We based these figures on average U.S. citizen's hourly salary, as reported by Bureau of Labor Statistics data (https://www.bls.gov/oes/current/oes_nat.htm), and average local Government Management and staff hourly wages, as reported by Bureau of Labor Statistics data (https://www.bls.gov/oes/current/oes110000.htm) & (https://www.bls.gov/oes/current/oes131071.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

2. Internet and Telephone Appointment Applications—20 CFR 404.620-404.630, and 416.330-416.340—0960-NEW. SSA offers both internet and telephone appointment options for individuals who wish to request an appointment when they are unable to complete one of SSA's online or automated telephone applications because they failed the initial verification checks,—or who state their reading language preference is other than English.

iAppointment: iAppointment is an online process that allows members of the public an easy-to-use method to schedule an appointment with the servicing office of their choice. Since the application date can affect when a claimant's benefit begins, iAppointment establishes a protective filing date and provides respondents information related to the date by which they must file their actual application. The iAppointment application propagates information the applicant already entered onto any of SSA's internet applications for SSN, name, date of birth, and gender. Applicants must provide minimal additional information: Mailing address; telephone number; language preference; type of appointment (Disability, Retirement, Medicare); and whether they prefer a telephone interview or in-office appointment. iAppointment is a customer-centric application. If the available appointment times do not meet the customer's needs, iAppointment allows the user to enter a different zip code to identify another field office, which may offer different appointment times. At this time, SSA only allows domestic first party applicants to use iAppointment. If users indicate they are filing as third parties, iAppointment provides a message directing them to call the National 800 Number for assistance. If a foreign first party user is unable to complete iClaim, iAppointment directs them to contact a Social Security representative, and provides a link to SSA's Service Around the World website.

Enhanced Leads and Appointment System (eLAS): eLAS is an Intranet-based version of the iAppointment screens for use by SSA technicians both in the field offices and call centers. eLAS interacts with iAppointment to ensure we always record the same information whether an individual requests an appointment through our internet screens or via telephone. eLAS is a non-public facing system that allows SSA employees in the field offices, workload support units, and teleservice centers to use an telephone interview process to schedule appointments and document an individual's intent to file using a script and asking the same questions to each individual. We use eLAS with individuals who use our automated telephone system or who prefer not to use iAppointment to set up their appointment.

The respondents are individuals who are unable to use our internet or automated telephone systems because they failed the initial verification checks; or because they state their reading language preference is other than English.

Type of Request: Request for a new information collection.

Modality of completion | Number of respondents | Frequency of response | Average burden per response (minutes) | Estimated total annual burden (hours) | Average theoretical hourly cost amount (dollars) * | Average combined wait time in field office or for teleservice center (minutes) ** | Total annual opportunity cost (dollars) ***
iAppointment | 17,621 | 1 | 10 | 2,937 | * $25.72 |  | *** $75,540
eLAS | 5,157,780 | 1 | 10 | 859,630 | * 25.72 | ** 21 | *** 68,540,019
Totals | 5,175,401 |  |  | 862,567 |  |  | *** 68,615,559
* We based these figures on average U.S. worker's hourly wages (based on BLS.gov data, https://www.bls.gov/oes/current/oes_nat.htm).
** We based this figure on the combined average FY 2020 wait times for field offices (approximately 24 minutes per respondent) and teleservice centers (approximately 17 minutes per respondent), based on SSA's current management information data.
*** This figure does not represent actual costs that SSA is imposing on recipients of Social Security payments to complete this application; rather, these are theoretical opportunity costs for the additional time respondents will spend to complete the application. There is no actual charge to respondents to complete the application.

3. Statement of Living Arrangements, In-Kind Support, and Maintenance—20 CFR 416.1130-416.1148—0960-0174. SSA determines Supplemental Security Income (SSI) payment amounts based on individuals' needs. We measure individuals' needs, in part, by the amount of income they receive, including in-kind support and maintenance in the form of food and shelter provided by other persons. SSA uses Form SSA-8006 to determine if in-kind support and maintenance exists for SSI applicants and recipients. This information also assists SSA in determining the income value of in-kind support and maintenance. The respondents are individuals who apply for SSI payments, or who complete an SSI eligibility redetermination.

Type of Request: Revision of an OMB-approved information collection.

Modality of completion | Number of respondents | Frequency of response | Average burden per response (minutes) | Estimated total annual burden (hours) | Average theoretical hourly cost amount (dollars) * | Average combined wait time in field office or for teleservice center (minutes) ** | Total annual opportunity cost (dollars) ***
SSA-8006—Intranet version (SSI Claims System) | 109,436 | 1 | 7 | 12,768 | * $10.73 | ** 17 | *** $469,706
SSA—8006-Paper version | 12,160 | 1 | 7 | 1,419 | * 10.73 | ** 24 | *** 67,417
Totals | 121,596 |  |  | 14,187 |  |  | *** 537,123
* We based this figure on average DI payments based on SSA's current FY 2020 data (https://www.ssa.gov/legislation/2020Fact%20Sheet.pdf).
** We based this figure on the average FY 2020 wait times for field offices (24 minutes) and wait times for teleservice centers (17 minutes), based on SSA's current management information data.
*** This figure does not represent actual costs that SSA is imposing on recipients of Social Security payments to complete this application; rather, these are theoretical opportunity costs for the additional time respondents will spend to complete the application. There is no actual charge to respondents to complete the application.

4. Statement of Funds You Provided to Another and Statement of Funds You Received—20 CFR 416.1103(f)—0960-0481. SSA uses Forms SSA-2854 (Statement of Funds You Provided to Another) and SSA-2855 (Statement of Funds You Received) to gather information to verify if a loan is bona fide for SSI recipients. The SSA-2854 asks the lender for details on the transaction, and Form SSA-2855 asks the borrower the same basic questions independently. Agency personnel then compare the two statements, gather evidence if needed, and make a decision on the validity of the bona fide status of the loan.

For SSI purposes, we consider a loan bona fide if it meets these requirements:

• Must be between a borrower and lender with the understanding that the borrower has an obligation to repay the money;

• Must be in effect at the time the cash goes to the borrower, that is, the agreement cannot come after the cash is paid; and

• Must be enforceable under State law, as often there are additional requirements from the State.

SSA collects this information at the time of initial application for SSI, or at any point when an individual alleges being party to an informal loan while receiving SSI. SSA collects information on the informal loan through both interviews and mailed forms. The agency's field personnel conduct the interviews and mail the form(s) for completion, as needed. The respondents are SSI recipients and applicants, and individuals who lend money to them.

Type of Request: Revision of an OMB-approved information collection.

Modality of completion | Number of respondents | Frequency of response | Average burden per response (minutes) | Estimated total annual burden (hours) | Average theoretical hourly cost amount (dollars) * | Average combined wait time in field office or for teleservice center (minutes) ** | Total annual opportunity cost (dollars) **
SSA-2854 | 20,000 | 1 | 15 | 5,000 | * $25.72 | ** 24 | *** $334,360
SSA-2855 | 20,000 | 1 | 15 | 5,000 | * 25.72 | ** 24 | *** 334,360
Totals | 40,000 |  |  | 10,000 |  |  | *** 668,720
* We based this figure on average U.S. citizen's hourly salary, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

5. Medicare Subsidy Quality Review Forms—20 CFR part 418—0960-0707. The Medicare Modernization Act of 2003 mandated the creation of the Medicare Part D prescription drug coverage program and provides certain subsidies for eligible Medicare beneficiaries to help pay for the cost of prescription drugs. As part of its stewardship duties of the Medicare Part D subsidy program, SSA must conduct periodic quality review checks of the information Medicare beneficiaries report on their subsidy applications (Form SSA-1020). SSA uses the Medicare Quality Review program to conduct these checks. The respondents are applicants for the Medicare Part D subsidy whom SSA chose to undergo a quality review.

Type of Request: Revision of an OMB-approved information collection.

Modality of completion | Number of respondents | Frequency of response | Average burden per response (minutes) | Estimated total annual burden (hours) | Average theoretical hourly cost amount (dollars) * | Total annual opportunity cost (dollars) ***
SSA-9301 (Medicare Subsidy Quality Review Case Analysis Form | 3,500 | 1 | 30 | 1,750 | * $40.64 | ** $71,120
SSA-9302 (Notice of Quality Review Acknowledgment Form for those with Phones) | 3,500 | 1 | 15 | 875 | * 25.72 | ** 22,505
SSA-9303 (Notice of Quality Review Acknowledgment Form for those without Phones) | 350 | 1 | 15 | 88 | * 25.72 | ** 2,263
SSA-9308 (Request for Information) | 7,000 | 1 | 15 | 1,750 | * 25.72 | ** 45,010
SSA-9310 (Request for Documents) | 3,500 | 1 | 5 | 292 | * 25.72 | ** 7,510
SSA-9311 (Notice of Appointment—Denial—Reviewer Will Call) | 450 | 1 | 15 | 113 | * 25.72 | ** 2,906
SSA-9312 (Notice of Appointment—Denial—Please Call Reviewer) | 50 | 1 | 15 | 13 | * 25.72 | ** 334
SSA-9313 (Notice of Quality Review Acknowledgment Form for those with Phones) | 2,500 | 1 | 15 | 625 | * 25.72 | ** 16,075
SSA-9314 (Notice of Quality Review Acknowledgement Form for those without Phones) | 500 | 1 | 15 | 125 | * 25.72 | ** 3,215
Total | 21,350 |  |  | 5,631 |  | ** 170,938
* We based this figures on average U.S. citizen's hourly salary, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

6. Redetermination of Eligibility for Help with Medicare Prescription Drug Plan Costs—20 CFR 418.3125—0960-0723. Under the Medicare Modernization Act of 2003, SSA conducts low-income subsidy eligibility redeterminations for Medicare beneficiaries who currently receive Medicare Part D subsidy and who meet certain criteria. Respondents complete Form SSA-1026-OCR-SM-REDE under the following circumstances: (1) When individuals became entitled to the Medicare Part D subsidy during the past 12 months; (2) if they were eligible for the Part D subsidy for more than 12 months; or (3) if they reported a change in income, resources, or household size. Part D beneficiaries complete Form SSA-1026-OCR-SM-SCE when they need to report a potentially subsidy-changing event, including the following: (1) Marriage; (2) spousal separation; (3) divorce; (4) annulment of a marriage; (5) spousal death; or (6) moving back in with one's spouse following a separation. The respondents are current recipients of Medicare Part D low-income subsidy who will undergo an eligibility redetermination for one of the reasons mentioned above.

Type of Request: Revision of an OMB-approved information collection.

Modality of completion | Number of respondents | Frequency of response | Average burden per response (minutes) | Estimated total annual burden (hours) | Average theoretical hourly cost amount (dollars) * | Average wait time in field office (minutes)** | Total annual opportunity cost (dollars) ***
SSA-1026-OCR-SM-REDE | 120,220 | 1 | 18 | 36,066 | * $25.72 |  | *** $927,618
SSA-1026-OCR-SM-SCE | 3,462 | 1 | 18 | 1,039 | * 25.72 |  | *** 26,723
REDE Field Office Interview | 50,879 | 1 | 18 | 15,264 | * 25.72 | ** 24 | *** 916,033
SCE Field Office Interview | 4,441 | 1 | 18 | 1,332 | * 25.72 | ** 24 | *** 79,948
Totals | 179,002 |  |  | 53,701 |  |  | *** 1,950,322
* We based this figure on average U.S. citizen's hourly salary, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

Dated: December 20, 2020.
Naomi Sipple,
Reports Clearance Officer, Social Security Administration.

[FR Doc. 2020-29207 Filed 1-5-21; 8:45 am]

BILLING CODE 4191-02-P